DEPARTMENT OF THE INTERIOR

National Park Service

Draft Environmental Impact Statement/Fire Management Plan Yosemite National Park Madera, Mariposa and Tuolumne Counties, California; Notice of Availability

SUMMARY: Pursuant to § 102(2)(C) of the National Environmental Policy Act of 1969 (Pub. L. 91-190, as amended), and the Council on Environmental Quality Regulations (40 CFR part 1500-1508), the National Park Service, Department of the Interior, has prepared a Draft Environmental Impact Statement identifying and evaluating four alternatives for a Fire Management Plan for Yosemite National Park, California. Potential impacts, and appropriate mitigations, are assessed for each alternative. When approved, the plan will guide all future fire management actions in Yosemite National Park.

This Draft Yosemite Fire Management Plan/Environmental Impact Statement (DYFMP/EIS) documents the environmental impact analysis of three action alternatives, and a no action alternative. These fire management alternatives are needed to meet public safety, natural and cultural resource management, and wildland/urban interface protection objectives, in Yosemite National Park and at the El Portal Administrative Site. The action alternatives vary in their schedule for completing ecosystem restoration and wildland/urban interface protection work, and in their mix of treatments available to the program for completing work. The no-action alternative describes the existing fire management program, which has been locally effective, but unable to restore large areas of the park and administrative site to natural conditions or to keep more areas from progressing to the point of needing restoration. As a result, the incidence of catastrophic fire has increased in recent decades.

Alternatives Analyzed

Under the preferred alternative (Alternative D, Multiple Action), aggressive treatment strategies would be used in wildland/urban interface (homes, businesses, and administrative buildings) if needed, while achieving ecosystem restoration goals in other areas by using prescribed fire and passive hazard reduction techniques. The Multiple Action Alternative would decrease fuels in wildland/urban interface areas over a period of 6-8 years and restore fire to the ecosystem in 15-20 years. This alternative would reduce fuels on 1,095 acres per year in the wildland/urban interface (7,664 acres total) and would restore the natural fire regime by treating between 1,817 and 9,194 acres per year (31,503 to 160,894 acres total). This alternative would require more time to accomplish wildland/urban interface protection and ecosystem restoration than under Alternative B, Aggressive Action Alternative, but less than under Alternatives A and C, Passive Action Alternative. It would accomplish the work with a combination of National Park Service and other agency fire crews, the park forestry crew, and some contract labor.

Under the No-Action Alternative (Alternative A), the existing direction and level of accomplishment in Yosemite's fire management program would continue. This alternative would use the strategies of the existing Fire Management Plan, written in 1990. These strategies include prescribed fire, management of natural ignitions (managed wildland fire), fire suppression, and hand cutting followed by pile burning and prescribed fire. This program has not been able to meet park needs because of the limited amount of annual accomplishment. The Fire Management Units for this alternative are the same as the “zones” used in the 1990 plan: Zone I—Prescribed Natural Fire Zone; Zone II—Conditional Fire Zone; and Zone III—Suppression Zone. Under this program the park has averaged 1,472 acres of prescribed burning and 2,567 acres of managed wildland fire each year. This does not approach the annual target of 16,000 acres that would need to burn annually to simulate natural conditions. While over the last decade the park has reduced hazardous levels of fuels near developed areas, the goal of providing an open defensible forest in and around every community may not ever be met at the current rate of work. Less than 25 acres per year, in each of the larger wildland/urban interface areas (Yosemite Valley, El Portal, Wawona, Foresta, Hodgdon Meadow, and Yosemite West), have been treated.

Under Alternative B (Agressive Action), active efforts would be taken to reduce fuels in and near developed areas (wildland/urban interface) within a period of five years and accomplish fire-related ecosystem restoration goals within 10-15 years. This alternative would reduce fuels on an average of 1,533 acres per year in the wildland/urban interface over five years (7,664 acres total) and restore the natural fire regime to between 2,520 and 12,872 acres per year, for a total of between 31,503 and 160,894 acres over the next 10-15 years. Prescribed burning would be increased dramatically over present levels and lightening fires would be managed where practicable. Work under this alternative would apply aggressive fuel reduction treatments to wildland/urban interface areas and accomplish park restoration goals in the least amount of time compared to the other alternatives. Median and maximum fire return interval departure analyses were used to determine locations and set annual goals (range of acres) for treatments, using the various restoration, maintenance, and fuel reduction strategies.

Under Alternative C (Passive Action), efforts would be taken to decrease fuels in wildland/urban interface areas within a period of 10 years, and accomplish ecosystem restoration goals in 25 years. Alternative C would reduce fuels in wildland/urban interface areas by an average of 766 acres per year (7664 acres total over 10 years), and the fire regime would be restored in areas having missed three or more fire return intervals by treating between 1,260 and 6,436 acres per year (31,503 to 160,894 acres over 25 years). Prescribed burning would be increased over what the current program accomplished but not as much as under Alternative B and D. Fuel reduction work under this alternative would apply less aggressive treatments to wildland/urban interface areas. Under this alternative, it would take more time than under Alternative B and the proposed action, but less than would be needed under Alternative A to accomplish the park's minimum goals. By the time all areas were treated, however, many areas would have missed another fire return interval or two, thus, the risk of stand replacement fire would remain high throughout the restoration period. The basis for the difference in annual accomplishment, when comparing alternatives, is the time frame proposed for reaching the restoration targets and the type of treatments allowed. Because of this time frame, the number of acres to be treated each year would be the least among the action alternatives.

Planning Background

The DYFMP/EIS was prepared pursuant to the National Environmental Policy Act. Public outreach was initiated in April 1999. A Notice of Intent was published in the Federal Register on March 22, 2001. Scoping comments were accepted until April 30, 2001. One planning meeting was held in Yosemite Valley. During this scoping period, the NPS held discussions and briefings with: local communities; local residents and home owners associations (Forest, Wawona, Yosemite West, and El Portal); local, regional and state fire organizations; air quality regulators; other agency representatives; park staff, elected officials; public service organizations; and other interested members of the public. Nearly 100 letters concerning the Draft YFMP/EIS planning process were received. The major issues raised during this period are summarized in Chapter 1, Purpose of and Need for the Action.

Public Meetings

In order to facilitate public review and comment on the draft DYFMP/EIS, the Superintendent will schedule public meetings in the Yosemite, Oakhurst, Mariposa, Sonora and one location on the east side of the park. Detailed information on location and times for each of the public meetings will be published in local and regional newspapers several weeks in advance and listed on the park's Webpage. Yosemite National Park management and planning officials will attend all sessions to present the DYFMP/EIS, to receive oral and written comments, and to answer questions. Participants are encouraged to review the document prior to attending a meeting.

Comments

The draft YFMP/EIS will be sent directly to those who have requested it. Copies will be available at park headquarters in Yosemite Valley, the Warehouse Building in El Portal, and at local and regional libraries (i.e., Mariposa, Oakhurst, Sonora, San Francisco and Los Angeles). Also, the complete document will be posted on the Yosemite National Park webpage http://www.nps.gov/yose/planning).

Written comments must be postmarked (or transmitted by e-mail) no later than 60 days from the date of publication of the EPAs filing notice in the Federal Register—as soon as this date is determined it will be announced on the park's webpage. All comments should be addressed to the Superintendent (and mailed to Yosemite National Park, P.O. Box 577, Yosemite, California 95389 (Attn: Fire Management Plan); or e-mailed to: Yose_Planning@nps.gov (in the subject line, type: Fire Management Plan)).

All comments received will be available for public review in the park's research library. If individuals submitting comments request that their name and/or address be withheld from public disclosure, it will be honored to the extent allowable by law. Such requests must be stated prominently in the beginning of the comments. There also may be circumstances wherein the NPS will withhold a respondent's identity as allowable by law. As always: NPS will make available to public inspection all submissions from organizations or businesses and from persons identifying themselves as representatives or officials of organizations and businesses, and, anonymous comments may not be considered.

Decision Process

Depending upon the degree of public interest and response from other agencies and organizations, at this time it is anticipated that the Final Fire Management Plan EIS will be completed during 2002; availability of the document will be duly noticed in the Federal Register. Subsequently, notice of an approved Record of Decision would be published in the Federal Register not sooner than thirty days after the final document is distributed. As a delegated EIS, the official responsible for the decision is the Regional Director, Pacific West Region, National Park Service; subsequently the official responsible for implementation is the Superintendent, Yosemite National Park.

Dated: April 2, 2002.
Arthur E. Eck,
Acting Regional Director, Pacific West Region.

[FR Doc. 02-15230 Filed 6-17-02; 8:45 am]

BILLING CODE 4310-70-P